DEPARTMENT OF AGRICULTURE

Food and Nutrition Service

Agency Information Collection Activities: Proposed Collection; Comment Request—School Breakfast Program

AGENCY: Food and Nutrition Service, USDA.

ACTION: Notice.

SUMMARY: In accordance with the Paperwork Reduction Act of 1995, this Notice announces the Food and Nutrition Service's (FNS) intention to request the Office of Management and Budget's (OMB) review of the information collections related to the School Breakfast Program, OMB number 0584-0012.

DATES: Comments on this notice must be received by March 26, 2001.

ADDRESSES: Comments and requests for copies of this information collection may be sent to Mr. Terry Hallberg, Chief, Program Analysis and Monitoring Branch, Child Nutrition Division, Food and Nutrition Service, USDA, 3101 Park Center Drive, Room 1006, Alexandria, Virginia 22302.

Comments are invited on: (a) Whether the proposed collection of information is necessary for the proper performance of the functions of the agency, including whether the information will have practical utility; (b) the accuracy of the agency's estimate of the burden of the proposed collection of information, including the validity of the methodology and assumptions used; (c) ways to enhance the quality, utility and clarity of the information to be collected; and (d) ways to minimize the burden of collection of information on those who are to respond, including through the use of appropriate automated, electronic, mechanical or other technological collection techniques or other forms of information technology.

All responses to this Notice will be summarized and included in the request for OMB approval, and will become a matter of public record.

FOR FURTHER INFORMATION CONTACT: Mr. Terry Hallberg, at (703) 305-2590.

SUPPLEMENTARY INFORMATION: Title: 7 CFR Part 220, School Breakfast Program.

OMB Number: 0584-0012.

Expiration Date: February 28, 2001.

Type of Request: Extension of a currently approved collection.

Abstract: Section 4 of the Child Nutrition Act of 1966 (CNA), (42 U.S.C. 1773), authorizes the School Breakfast Program. The School Breakfast Program is a nutrition assistance program whose benefit is a breakfast meeting nutritional requirements prescribed by the Department in accordance with Section 4(e) of the CNA. That provision requires that “Breakfasts served by schools participating in the school breakfast program under this section shall consist of a combination of foods and shall meet minimum nutritional requirements prescribed by the Secretary on the basis of tested nutritional research.”

On June 8, 2000, FNS published an interim rule which allows schools to offer foods that consist of up to 100 percent alternate protein products. School food authorities that already provide menus or otherwise communicate with program participants must identify products or dishes with more than 30 percent alternate protein products in a manner which does not characterize it solely as beef, pork, poultry or seafood products or dishes. This could include information provided on serving lines and does not require that school food authorities use menus or other methods of communication. This provision allows program participants to make informed decisions about their food choices under the school meals programs and is referred to as a third-party disclosure requirement. Although this provision is in effect, this Notice affords the public an opportunity to again comment on the burden associated with the identification of alternate protein products.

The purpose of this Notice is also to request an extension of the Information Collection Budget for the School Breakfast Program and in accordance with the Paperwork Reduction Act of 1995, and to allow the public 60 days to comment on all reporting and recordkeeping burdens as indicated under the Estimated Total Annual Burden on Respondents below. The information being requested is required to administer and operate this program in accordance with the CNA. The Program is administered at the State and school food authority levels and the operations include the submission and approval of applications, execution of agreements, submission of claims, payment of claims and, monitoring and providing technical assistance. All of the reporting and recordkeeping requirements associated with the School Breakfast Program are currently approved by the Office of Management and Budget and are in force.

Respondents: State agencies, school food authorities and schools.

Estimated Number of Respondents: 82,748.

Average Number of Responses per Respondent: The number of responses is estimated to be 59 responses per respondent per year.

Estimated Total Annual Burden on Respondents: The recordkeeping burden hours are estimated at 4,674,185, and the reporting burden hours are estimated at 221,611 for an estimated total annual burden of 4,895,796.

Dated: January 16, 2001.
Samuel Chambers, Jr.,
Administrator.

[FR Doc. 01-2016 Filed 1-22-01; 8:45 am]

BILLING CODE 3410-30-P